FEDERAL RESERVE SYSTEM

Agency Information Collection Activities: Announcement of Board Approval Under Delegated Authority and Submission to OMB

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Shore -- Division of Research and Statistics, Board of Governors of the Federal Reserve System, Washington, DC 20551 (202-452-3829)

OMB Desk Officer -- Alexander T. Hunt -- Office of Information and Regulatory Affairs, Office of Management and Budget, New Executive Office Building, Room 10235, Washington, DC 20503.

Final approval under OMB delegated authority of the extension for three years, without revision, of the following reports:

1. Report title: Report of Selected Balance Sheet Items for Discount Window Borrowers

Agency form number: FR 2046

OMB Control number: 7100-0289

Frequency: On occasion

Reporters: Depository institutions

Annual reporting hours: 894 hours

Estimated average hours per response: Primary and Secondary Credit, 0.75 hour; Seasonal Credit, 0.25 hour

Number of respondents: 171

General description of report: This information collection is required to obtain or retain a benefit pursuant to section 10B of the Federal Reserve Act [12 U.S.C. § 347b] and is given confidential treatment [5 U.S.C. § 552(b)(4)].

Abstract: The Federal Reserve(s Regulation A, Extensions of Credit by Federal Reserve Banks, requires that the Federal Reserve review balance sheet data in determining whether to extend credit and to help ascertain whether undue use is made of such credit. Borrowers report certain balance sheet data for a period that encompasses the dates of borrowing. There are no proposed changes to the FR 2046; however, the Federal Reserve is clarifying the instructions.

Current Actions: On May 8, 2007, the Federal Reserve published a notice in the Federal Register (72 FR 26116) requesting public comment for 60 days on the extension, without revision, of the FR 2046. The comment period for this notice expired on July 9, 2007. The Federal Reserve did not receive any comments.

2. Report title: Request for Extension of Time to Dispose of Assets Acquired in Satisfaction of Debts Previously Contracted

Agency form number: FR 4006

OMB Control number: 7100-0129

Frequency: Annual

Reporters: Bank holding companies

Annual reporting hours: 180 hours

Estimated average hours per response: 5 hours

Number of respondents: 36

General description of report: This information collection is required to obtain a benefit pursuant to section 4(c)(2) of the Bank Holding Company Act [12 U.S.C. § 1843(c)(2)] and may be given confidential treatment upon request. The Federal Reserve has established a procedure for requesting an extension in its Regulation Y [12 C.F.R. § 225.22(d)(1)(ii)].

Abstract: A bank holding company that acquired voting securities or assets through foreclosure in the ordinary course of collecting a debt previously contracted may not retain ownership of those shares or assets for more than two years without prior Federal Reserve approval. There is no formal reporting form, and each request for extension must be filed at the appropriate Reserve Bank of the bank holding company. The Federal Reserve uses the information provided in the request to fulfill its statutory obligation to supervise bank holding companies.

Current Actions: On May 8, 2007, the Federal Reserve published a notice in the Federal Register (72 FR 26116) requesting public comment for 60 days on the extension, without revision, of the FR 4006. The comment period for this notice expired on July 9, 2007. The Federal Reserve did not receive any comments.

Board of Governors of the Federal Reserve System, July 13, 2007.
Jennifer J. Johnson,
Secretary of the Board.

[FR Doc. E7-13900 Filed 7-17-07; 8:45 am]

BILLING CODE 6210-01-S